FEDERAL COMMUNICATIONS COMMISSION

47 CFR Part 64

[CC Docket No. 98-67; DA 01-1555]

Provision of Improved Telecommunications Relay Service

AGENCY: Federal Communications Commission.

ACTION: Proposed rule; correction.

SUMMARY: The Commission published a document in the Federal Register of July 19, 2001. The Commission now corrects the date for reply comments reflected in that document which sought additional comment on the provision of improved Telecommunications Relay Service and additional issues associated with IP Relay.

FOR FURTHER INFORMATION CONTACT: Dana Jackson, (202) 418-2247 (voice), (202) 418-7898 (TTY). This document is available to individuals with disabilities requiring accessible formats (electronic ASCII text, Braille, large print, and audio) by contacting Brian Millin at (202) 418-7426 (voice), (202) 418-7365 (TTY), or by sending an email to access@fcc.gov.

SUPPLEMENTARY INFORMATION: The Federal Communications Commission published a document seeking comment on WorldCom's Petition and additional issues associated with IP Relay. In the FR Doc. 01-18054 (66 FR 37631, July 19, 2001) in column 3, correct the DATES caption to read as follows:

DATES: Comments are due on or before July 30, 2001 and reply comments are due on or before August 20, 2001.

Federal Communications Commission.
Karen Peltz Strauss,
Deputy Chief, Consumer Information Bureau.

[FR Doc. 01-19344 Filed 8-2-01; 8:45 am]

BILLING CODE 6712-01-P